DEPARTMENT OF THE INTERIOR

Bureau of Land Management

[LLCACO9000 1430000000 ET0000 14XL 1109AF; CACA 052573)

Public Land Order No. 7834; Withdrawal of Public Lands, North and Middle Fork of the American River, California

AGENCY: Bureau of Land Management, Interior.

ACTION: Public Land Order.

SUMMARY: This order withdraws 6,737.42 acres of public lands from location and entry under the United States mining laws for 20 years on behalf of the Bureau of Land Management to protect and preserve the riparian areas, wildlife habitat, scenic quality, and high recreational values of lands within the North and Middle Fork of the American River and to provide protection of lands associated with the congressionally designated Auburn Dam Reclamation Project Area pending a decision on future development of the site. The lands, which are located in El Dorado and Placer Counties, California, will remain open to leasing under the mineral and geothermal leasing laws.

DATES: Effective Date: April 16, 2015.

FOR FURTHER INFORMATION CONTACT: Jodi Lawson, Bureau of Land Management Mother Lode Field Office, 916-941-3139, or write: Field Manager, BLM Mother Lode Field Office, 5152 Hillsdale Circle, El Dorado Hills, California 95762. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Land Management will manage the lands to protect the unique natural, scenic, cultural, and recreational values along the North and Middle Fork of the American River.

Order

By virtue of the authority vested in the Secretary of the Interior by Section 204 of the Federal Land Policy and Management Act of 1976, 43 U.S.C. 1714, it is ordered as follows:

1. Subject to valid existing rights, the following described public lands are hereby withdrawn from location and entry under the United States mining laws, but not the mineral or geothermal leasing laws, to protect the unique natural, scenic, cultural, and recreational values along the North and Middle Fork of the American River and to provide protection of lands associated with the congressionally designated Auburn Dam Reclamation Project pending a decision on future development of the site:

Mount Diablo Meridian

T. 12 N., R. 8 E.,

Sec. 12, S½SW¼;

Sec. 25, North Extension of the Wilhelm Lode Mineral Survey No. 6091.

T. 12 N., R. 9 E.,

Sec. 1, lots 10 and 11;

Sec. 4, lots 12, 13, and 14, and S½NE¼;

Sec. 5, lots 19, 20, and 21;

Sec. 18, lot 1.

T. 13 N., R. 9 E.,

Sec. 1, that portion of unpatented Mineral Survey No. 2653 lying in the NE¼;

Sec. 2, lots 1, 2, and 7, N½SW¼, SW¼SW¼, and N½SE¼SW¼;

Sec. 11, lot 2 and S½SW¼;

Sec. 13, SE¼SE¼;

Sec. 22, N½SW¼ and SW¼SW¼;

Sec. 23, Mineral Survey U-3;

Sec. 25, SE¼NE¼, W½NW¼SE¼, W½W½W½SW¼SE¼, and Summit Hill Consolidated Quartz Mine;

Sec. 28, NW¼SW¼, N½SW¼SW¼, E½SW¼SW¼SW¼, and W½SE¼SW¼SW¼;

Sec. 32, lots 4 and 5;

Sec. 34, lot 4.

T. 13 N., R. 10 E.,

Sec. 2, lot 1, and lots 3 to 15, inclusive;

Sec. 9, lots 8, 12, 13, and SW¼NE¼;

Sec. 10, lots 1 to 10, inclusive, E½NE¼, E½NW¼, SW¼NW¼ and SE¼SE¼;

Sec. 11, lot 1 and SW¼NE¼;

Sec. 18, lots 1 to 4, inclusive, S½ of lot 5, S½ of lot 8, and lots 11 and 13;

Sec. 19, lot 24;

Sec. 20, lots 1, 2, 3, and 8, N½NE¼, and SE¼NE¼;

Sec. 30, lots 1, 5, and 6, S½NE¼, and NE¼SE¼.

T. 14 N., R. 9 E.,

Sec. 1, lot 5, S½NW¼, Gitaway Quartz Mine, and Blue Rock Quartz Mine;

Sec. 12, N½ and SE¼;

Sec. 13, NE¼;

Sec. 24, S½;

Sec. 25, lots 9 to 13, inclusive, lots 15 to 22, inclusive, S½SW¼, NE¼SE¼, and SW¼SE¼;

Sec. 35, lots 5, 6 and 7, NE¼, E½NW¼, SW¼SW¼, and E½SE¼;

Sec. 36, lots 2, 3, 7, 8, 9, 14, and 22, and NW¼.

T. 14 N., R. 10 E.,

Sec. 7, lots 6, 15, 27, 28, 42, and 45;

Sec. 18, lots 2 to 7, inclusive, and lots 10 to 15, inclusive;

Sec. 30, lots 4, 8, 9, 10, and lots 15 to 18, inclusive, NE¼, E½NW¼, SE¼SW¼, and SW¼SE¼.

T. 15 N., R. 9 E.,

Sec. 36, E½NW¼SW¼, unsurveyed S½SE¼SW¼, and unsurveyed SW¼SE¼.

The areas described aggregate 6,737.42 acres, more or less, in El Dorado and Placer Counties.

2. The withdrawal made by this order does not alter the applicability of public land laws other than the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: April 5, 2015.
Janice M. Schneider,
Assistant Secretary—Land and Minerals Management.

[FR Doc. 2015-08687 Filed 4-15-15; 8:45 am]

BILLING CODE 4310-40-P